DEPARTMENT OF THE INTERIOR

National Park Service

Record of Decision; Final Environmental Impact Statement; General Management Plan; Washita Battlefield National Historic Site, Oklahoma

Introduction

The Department of the Interior, National Park Service (NPS), has prepared this Record of Decision (ROD) on the Final General Management Plan/Environmental Impact Statement for Washita Battlefield National Historic Site, Oklahoma. This ROD includes a statement of the decision made, synopses of other alternatives considered, the basis for the decision, a description of the environmentally preferable alternative, a discussion of impairment of park resources or values, a listing of measures to minimize environmental harm, and an overview of public involvement in the decision-making process.

Decision (Selected Action)

The National Park Service will implement the preferred alternative as described in the Final General Management Plan/Environmental Impact Statement issued in August 2001. Under the selected action, park managers will make several changes to in order to provide a better visitor experience and protect the resource values at Washita Battlefield National Historic Site. The site will be zoned to ensure that resources are protected and opportunities exist to provide a quality visitor experience. Most of the site (about 90%) will be restored to native vegetation as directed by the site's enabling legislation. A new loop trail system will allow visitors to access the site. At the US Forest Service's Black Kettle National Grassland ranger station a shared administrative, maintenance, visitor facility will be constructed. The existing overlook will be redesigned to provide a better interpretive experience for the visitor.

Other Alternatives Considered

Three other alternatives for managing Washita Battlefield National Historic Site were evaluated in the draft and final environmental impact statements.

The no-action alternative provides a baseline for evaluating the changes and impacts of the three action alternatives. Under the no-action alternative, park managers would continue to manage the park as it is currently managed, relying on the interim plans and other related existing plans. No new construction or major changes would take place, except for previously approved developments. All of the park's existing facilities would continue to be operated and maintained as they are currently.

Alternative A would provide a new administrative, maintenance and visitor facility at the US Forest Service's Black Kettle National Grassland. There would not be any trail access down onto the site. However, the overlook would be redesigned to provide for better interpretation of the site.

Alternative B would provide visitors with an onsite learning experience with an administrative, maintenance, and visitor facility on site. A loop trail would cross the river and return to the visitor area. The overlook would also be redesigned under this alternative.

Basis for Decision

The Organic Act established the National Park Service in order to “promote and regulate the use of parks.* * *” The Organic Act defined the purpose of the national parks as “to conserve the scenery and natural and historic objects and wild life therein and to provide for the enjoyment of the same in such manner and by such means as will leave them unimpaired for the enjoyment of future generations.” The Organic Act provides overall guidance for the management of Washita Battlefield National Historic Site.

In reaching its decision to select the preferred alternative, the National Park Service considered the purposes for which Washita Battlefield National Historic Site was established, and other laws and policies that apply to lands at Washita Battlefield National Historic Site, including the Organic Act, National Environmental Policy Act, and the NPS Management Policies. The National Park Service also carefully considered public comments received during the planning process.

Each alternative in the General Management Plan presents a different framework for managing Washita Battlefield National Historic Site. As a result, each alternative would have different impacts on park resources and visitors.

Compared to all of the alternatives considered, the preferred alternative (selected action) best accomplishes protection of park resources while providing of a range of quality visitor experiences. The preferred alternative would have both beneficial and adverse impacts on the park's resources, but most of the adverse impacts would be minor and localized. The new management zones would help ensure that opportunities exist for experiencing education and solitude for the visitor while protecting the site's cultural and natural resource values.

The preferred alternative provides the visitors with a better experience than Alternative A by allowing trail access down onto the site.

Compared to alternative B, the preferred alternative would result in far fewer adverse impacts on the cultural and natural resources of the site by having the major facility located off site. Unlike the preferred alternative, under Alternative B there would be the potential for moderate adverse impacts to the park resource values.

Environmentally Preferable Alternative

Records of decision are required under Council on Environmental Quality regulations to identify the environmentally preferable alternative. Environmentally preferable is defined as “the alternative that will promote the national environmental policy as expressed in section 101 of the National Environmental Policy Act. Section 101 states that “* * * it is the continuing responsibility of the Federal Government to * * * (1) fulfill the responsibilities of each generation as trustee of the environment for succeeding generations; (2) assure for all Americans safe, healthful, productive, and aesthetically and culturally pleasing surroundings; (3) attain the widest range of beneficial uses of the environment without degradation, risk to health or safety, or other undesirable and unintended consequences; (4) preserve important historic, cultural, and natural aspects of our national heritage, and maintain, wherever possible, an environment which supports diversity, and variety of individual choice; (5) achieve a balance between population and resource use which will permit high standards of living and a wide sharing of life's amenities; and (6) enhance the quality of renewable resources and approach the maximum attainable recycling of depletable resources.”

The environmentally preferable alternative is the NPS preferred alternative in the Final Washita Battlefield National Historic Site General Management Plan/Environmental Impact Statement because it surpasses the other alternatives in realizing the full range of national environmental policy goals in section 101. This alternative provides a high level of protection of natural and cultural resources while concurrently providing for a wide range of neutral and beneficial uses of the environment. The alternative maintains an environment that supports a diversity and variety of individual choices. Also it integrates resource protection with an appropriate range of visitor uses.

The no-action alternative does not provide as much resource protection as the preferred alternative. Adverse visitor experience impacts also would likely increase under this alternative. Thus, compared to the preferred alternative, the no-action alternative is not as effective at meeting national environmental policy goals 3 (attain the widest range of beneficial uses of the environment without degradation), 4 (preserve important cultural and natural aspects and maintain an environment that supports diversity and variety of individual choice), 5 (achieve a balance between population and resource use), and 6 (enhance the quality of renewable resources).

Although alternative A provides a higher level of resource protection than the preferred alternative, it restricts visitor experiences and thus does not fully achieve goals 3 (providing the widest range of beneficial uses of the environment without degradation) and 5 (achieving a balance between population and resource use)—alternative A does not realize these national environmental policy goals to the same extent as the preferred alternative.

Alternative B does provide for more localized visitor experiences and access to the site. However, there would be a higher potential for adverse impacts to cultural and natural resources under this alternative compared to the preferred alternative. Thus, alternative B does not meet policy goals 3 (attain the widest range of beneficial uses without degradation), 4 (preserve important cultural and natural aspects), and 6 (enhance the quality of renewable resources) to the same degree as the preferred alternative.

Findings on Impairment of Park Resources and Values

The National Park Service may not allow the impairment of park resources and values unless directly and specifically provided for by legislation or proclamation establishing the park. Impairment that is prohibited by the NPS Organic Act and the General Authorities Act is an impact that, in the professional judgment of the responsible NPS manager, would harm the integrity of park resources or values, including the opportunities that otherwise would be present for the enjoyment of those resources or values. In determining whether an impairment would occur, park managers examine the duration, severity and magnitude of the impact; the resources and values affected; and direct, indirect, and cumulative effects of the action. According to NPS policy, “An impact would be more likely to constitute an impairment to the extent that it affects a resource or value whose conservation is: (a) Necessary to fulfill specific purposes identified in the establishing legislation or proclamation of the park; (b) Key to the natural or cultural integrity of the park or to opportunities for enjoyment of the park; or (c) Identified as a goal in the park's general management plan or other relevant NPS planning documents.”

This policy does not prohibit all impacts to park resources and values. The National Park Service has the discretion to allow impacts to park resources and values when necessary and appropriate to fulfill the purposes of a park, so long as the impacts do not constitute an impairment.

Moreover, an impact is less likely to constitute an impairment if it is an unavoidable result, which cannot be further mitigated, of an action necessary to preserve or restore the integrity of park resources or values.

After analyzing the environmental impacts described in the Final General Management Plan/Environmental Impact Statement and public comments received, the National Park Service has determined that implementation of the preferred alternative will not constitute an impairment to Washita Battlefield National Historic Site's resources and values. The actions comprising the preferred alternative are intended to protect and enhance the park's natural and cultural resources, and provide for high-quality visitor experiences. Overall, the alternative would have minor, beneficial effects on such resources as cultural landscapes, ethnography and park collections; and a moderate, beneficial effect on visitor experience. From an overall, parkwide perspective, no major adverse impacts to the park's resources or the range of visitor experiences and no irreversible commitments of resources (other than a small loss of soil) would be expected. While the alternative would have some adverse effects on park resources and visitor experiences, most of these impacts would be site-specific, minor to moderate, short-term impacts.

Measures To Minimize Environmental Harm

Measures to avoid or minimize environmental harm that could result from implementation of the selected action have been identified and incorporated into the preferred alternative and are described in detail in the Final General Management Plan/Environmental Impact Statement. Cultural and natural resource mitigation measures are described in the “Alternatives” chapter, the description of the preferred alternative, and in the analysis of environmental impacts. Measures to minimize environmental harm include, but are not limited to: tribal consultations; siting projects and facilities in previously disturbed or developed locations; employing erosion control measures, restoration of habitats using native plant materials; visitor education programs, ranger patrols, erecting barriers and signs to reduce or prevent impacts; allowing only the use of weed-free materials and equipment in the park; conducting visitor surveys and monitoring visitor use patterns; monitoring changes in the condition of natural and cultural resources; monitoring construction activities; and consulting with the Oklahoma Historical Society, office of the state historic preservation officer and U.S. Fish and Wildlife Service when appropriate.

Public Involvement

The National Park Service provided numerous opportunities for the public to participate in the Washita Battlefield National Historic Site general management planning process. The planning team primarily used newsletters and public meetings to solicit public comments and suggestions for the plan. During the course of the planning process two newsletters were sent to the site's mailing list, which consisted of over 400 names. Each of the newsletters provided the opportunity for feedback and comments from the public. The planning team held three sets of public meetings to gain public input during scoping, preliminary alternatives development and the draft plan public review. In addition, members of the planning team consulted with and sought the views of several agencies and governments, including the Southern Cheyenne and Arapaho tribes, Northern Cheyenne, Apache, Wichita tribes, the Bureau of Indian Affairs, U.S. Fish and Wildlife Service, US Forest Service, and the Oklahoma Historical Society.

The comment period on the draft plan initially ran from February 15, 2001, through May 20, 2001. A notice of availability was published in the March 20, 2001, Federal Register. The planning team held six public meetings on the draft environmental impact statement from March 27 through March 30, 2001. Meetings were held in Anadarko, Concho, Clinton, and Cheyenne, Oklahoma. About fifteen separate written responses were received during the comment period.

Two individuals commented on the Final General Management Plan/Environmental Impact Statement during the 30-day no-action period. No new substantive issues were raised in the two comment letters.

The notice of availability for the final environmental impact statement was published in the September 21, 2001 Federal Register. The 30-day “no action” period ended on October 15, 2001.

Conclusion

Among the alternatives considered, the preferred alternative best protects the diversity of park resources while also maintaining a range of quality visitor experiences, meets NPS purposes and goals for managing Washita Battlefield National Historic Site, and meets national environmental policy goals. The preferred alternative would not result in the impairment of park resources and would allow the National Park Service to conserve park resources and provide for their enjoyment by visitors. The officials responsible for implementing the selected alternative are the Director, Intermountain Region, and the Superintendent, Washita Battlefield National Historic Site.

Dated: November 6, 2001.
John T. Crowley,
Acting Director, Intermountain Region, National Park Service.

[FR Doc. 02-380 Filed 1-7-02; 8:45 am]

BILLING CODE 4310-70-P